FEDERAL HOUSING FINANCE BOARD

Sunshine Act Meeting Notice; Announcing a Partially Open Meeting of the Board of Directors

Time and Date: The open meeting of the Board of Directors is scheduled to begin at 10 a.m. on Wednesday, July 13, 2005. The closed portion of the meeting will follow immediately the open portion of the meeting.

Place: Board Room, First Floor, Federal Housing Finance Board, 1625 Eye Street NW., Washington DC 20006.

Status: The first portion of the meeting will be open to the public. The final portion of the meeting will be closed to the public.

Matters To Be Considered at the Open Portion of the Meeting: Data Reporting Requirements for the Call Report System. Through the Call Report System, the Federal Home Loan Banks electronically submit to the Finance Board financial, business line, compliance, and other operating information on a monthly and quarterly basis. The Board of Directors will consider a resolution adopting the requirements for these periodic call reports.

Matter To Be Considered at the Closed Portion of the Meeting: Periodic Update of Examination Program Development and Supervisory Findings.

CONTACT FOR FURTHER INFORMATION: Shelia Willis, Paralegal Specialist, Office of General Counsel, at 202-408-2876 or williss@fhfb.gov.

By the Federal Housing Finance Board.
Dated: July 6, 2005.
John P. Kennedy,
General Counsel.

[FR Doc. 05-13607 Filed 7-6-05; 4:57 pm]

BILLING CODE 6725-01-P